DEPARTMENT OF HEALTH AND HUMAN SERVICES

National Institutes of Health

National Institute of Diabetes and Digestive and Kidney Diseases; Amended Notice of Meeting

Notice is hereby given of a change in the meeting of the National Diabetes and Digestive and Kidney Diseases Advisory Council, which was published in the Federal Register on November 09, 2021, FR Doc 2021-24439, 86 FR 62187.

The meeting notice is amended to change the time from 10:00 a.m.-1:45 p.m., to 10:00 a.m.-2:00 p.m. The meeting is partially Closed to the public.

Dated: December 20, 2021.
Miguelina Perez,
Program Analyst, Office of Federal Advisory Committee Policy.

[FR Doc. 2021-28002 Filed 12-23-21; 8:45 am]

BILLING CODE 4140-01-P